DEPARTMENT OF ENERGY

Federal Energy Regulatory Commission

[Docket No. AD16-18-000]

Competitive Transmission Development, Technical Conference; Supplemental Notice of Technical Conference and Request for Speakers

As announced in the Notice of Technical Conference issued in this proceeding on March 17, 2016, the Federal Energy Regulatory Commission will hold a Commissioner-led technical conference on June 27, 2016, from approximately 1:00 p.m. to 5:00 p.m., and on June 28, 2016, from approximately 9:00 a.m. to 5:00 p.m., at the Commission's headquarters at 888 First Street NE., Washington, DC 20426. The purpose of the technical conference is to discuss issues related to competitive transmission development processes, including, but not limited to, the use of cost containment provisions, the relationship of competitive transmission development to transmission incentives, and other ratemaking issues.¹ In addition, participants will have the opportunity to discuss issues relating to interregional transmission coordination, regional transmission planning and other transmission development issues.²

¹ Topics to be discussed include, but are not limited to, those that the Commission described in NextEra Energy Transmission West, LLC, 154 FERC ¶ 61,009, at PP 76-78 (2015) and ITC Grid Development, LLC, 154 FERC ¶ 61,206, at P 49 (2016).

² See Northern Indiana Public Service Co. v. Midcontinent Independent System Operator, Inc. and PJM Interconnection L.L.C., 155 FERC ¶ 61,058, at P 54 (2016).

Attached to this Supplemental Notice is a preliminary agenda for the technical conference and a description of key concepts.

Those interested in speaking at the technical conference should notify the Commission by May 17, 2016, by completing the online form at the following Web page: https://www.ferc.gov/whats-new/registration/06-27-16-speaker-form.asp. At this Web page, please describe the topic(s) you wish to address and provide biographical information. Due to time constraints, we anticipate that we may not be able to accommodate all those interested in speaking. We will notify selected speakers as soon as possible.

Interested parties may submit pre-technical conference comments (with a ten page limit) for consideration in Docket No. AD16-18-000 no later than May 31, 2016.

The conference will be open for the public to attend. Information on the technical conference will also be posted on the Calendar of Events on the Commission's Web site, http://www.ferc.gov, prior to the event. Advance registration is not required but is encouraged. Attendees may register at the following Web page: https://www.ferc.gov/whats-new/registration/06-27-16-form.asp.

This event will be webcast and transcribed. Anyone with internet access can navigate to the “FERC Calendar” at www.ferc.gov, and locate the technical conference in the Calendar of Events. Opening the technical conference in the Calendar of Events will reveal a link to its webcast. The Capitol Connection provides technical support for the webcast and offers the option of listening to the meeting via phone-bridge for a fee. If you have any questions, visit www.capitolconnection.org or call 703-993-3100. The webcast will be available on the Calendar of Events at www.ferc.gov for three months after the conference. Transcripts of the conference will be immediately available for a fee from Ace-Federal Reporters, Inc. (202-347-3700).

Commission conferences are accessible under section 508 of the Rehabilitation Act of 1973. For accessibility accommodations, please send an email to accessibility@ferc.gov or call toll free 1-866-208-3372 (voice) or 202-502-8659 (TTY), or send a FAX to 202-208-2106 with the required accommodations.

For more information about this technical conference, please contact:

Sarah McKinley (Logistical Information), Office of External Affairs, (202) 502-8004, sarah.mckinley@ferc.gov

David Tobenkin (Technical Information), Office of Energy Policy and Innovation, (202) 502-6445, david.tobenkin@ferc.gov

Zeny Magos (Technical Information), Office of Energy Market Regulation, (202) 502-8244, zeny.magos@ferc.gov

Erica Siegmund Hough (Legal Information), Office of General Counsel, (202) 502-8251, erica.siegmund@ferc.gov

Dated: May 10, 2016.
Kimberly D. Bose,
Secretary.

[FR Doc. 2016-11551 Filed 5-16-16; 8:45 am]

BILLING CODE 6717-01-P